DEPARTMENT OF COMMERCE

Census Bureau

Agency Information Collection Activities; Submission to the Office of Management and Budget (OMB) for Review and Approval; Comment Request; National Survey of Children's Health Longitudinal Cohort (NSCH-LC)

AGENCY: U.S. Census Bureau, Commerce.

ACTION: Notice of information collection, request for comment.

SUMMARY: The Department of Commerce, in accordance with the Paperwork Reduction Act (PRA) of 1995, invites the public and other Federal agencies to comment on proposed, and continuing information collections, which helps us assess the impact of our information collection requirements and minimize the public's reporting burden. The purpose of this notice is to allow for 60 days of public comment on the proposed new information collection, of the National Survey of Children's Health Longitudinal Cohort, prior to the submission of the information collection request (ICR) to OMB for approval.

DATES: To ensure consideration, comments regarding this proposed information collection must be received on or before January 20, 2023.

ADDRESSES: Interested persons are invited to submit written comments by email to ADDP.NSCH.List@census.gov. Please reference National Survey of Children's Health Longitudinal Cohort in the subject line of your comments. You may also submit comments, identified by Docket Number USBC-2022-0019, to the Federal e-Rulemaking Portal: http://www.regulations.gov. All comments received are part of the public record. No comments will be posted to http://www.regulations.gov for public viewing until after the comment period has closed. Comments will generally be posted without change. All Personally Identifiable Information (for example, name and address) voluntarily submitted by the commenter may be publicly accessible. Do not submit Confidential Business Information or otherwise sensitive or protected information. You may submit attachments to electronic comments in Microsoft Word, Excel, or Adobe PDF file formats.

FOR FURTHER INFORMATION CONTACT: Requests for additional information or specific questions related to collection activities should be directed to Carolyn Pickering, Survey Director, by way of phone (301-763-3873) or email (Carolyn.M.Pickering@census.gov).

SUPPLEMENTARY INFORMATION:

I. Abstract

Sponsored by the U.S. Department of Health and Human Services' Health Resources Services Administration's Maternal and Child Health Bureau (HRSA MCHB), the National Survey of Children's Health Longitudinal Cohort (NSCH-LC) will produce unique data on the physical and emotional health of 3- to 23-year-olds in the United States with a focus on the COVID-19 pandemic. The NSCH-LC will collect information related to the health and well-being of children, young adults, and their families, including access to and use of health care, family interactions, parental health, school, and after-school experiences.

The goal of the NSCH-LC is to provide HRSA MCHB, other government agencies, and other data users with the necessary data to assess the effects of the COVID-19 pandemic on U.S. children, young adults, and their families, to illuminate key risk and protective factors for this cohort, and to identify gaps in health care and education during this period.

The data collection strategy for the NSCH-LC is informed by the data collection strategies of other similar surveys, such as the annual National Survey of Children's Health (NSCH). The data collection strategy for the NSCH-LC will consist of the following components:

• Sampling Frame—The base sample will consist of 60,000 households that responded to the annual NSCH in 2018 and 2019.

• Incentive Distribution—The NSCH-LC will provide a $5 pre-paid unconditional cash incentive to 100% of the total sampled addresses.

• Mailing Materials Strategy— Households will be assigned to a mailing strategy based on respondent behavior in the NSCH 2018/2019. All sampled addresses will receive an initial web invitation letter to complete the NSCH-LC followed by a pressure-sealed reminder postcard one week later. All non-responding households may receive up to one additional pressure-sealed reminder postcard and up to three additional nonresponse follow-up mailings. Households will receive a paper questionnaire based on their prior response preference on the NSCH 2018/2019. Households with a preference to respond with the paper instrument may receive an English questionnaire as early as the first follow-up mailing. Households with a preference to respond with the web instrument may receive an English questionnaire as early as the second follow-up mailing. For households that preferred to respond in Spanish, those households will receive a Spanish paper questionnaire in the initial mailing and with each nonresponse follow-up mailing. The NSCH-LC mailed correspondence will be addressed to the “Parent or Previous Caregiver of [child's/person's name]” or to the “Parent or Previous Caregiver”. For those households that complete the survey, they may receive a “thank you” letter after the data has been publicly released thanking them for their response and sharing information about where to find the published datasets.

• Questionnaire Content—The content for the NSCH-LC has undergone two rounds of cognitive testing ¹ and asks households to report retrospectively on different topics during the COVID-19 pandemic at the time of response when the NSCH-LC will be fielded in late Summer 2023. Additional content will be from the annual NSCH covering topics such as physical and emotional health, health insurance coverage, health care access, community, childcare, and school engagement, development, learning, and school readiness, and family resources. The overlap of content with the annual NSCH was done to provide a comparison of content collected in NSCH 2018/2019 to the NSCH-LC in 2023. Some of the content from the NSCH 2018/2019 was updated to a gender-neutral text to match current standards. This cognitive testing request was submitted under the generic clearance package and approved by OMB. Based on the results of cognitive testing, a final set of proposed new and modified content will be included in the full OMB ICR for the NSCH-LC.

¹ Generic Clearance Information Collection Request: https://www.reginfo.gov/public/do/PRAViewIC?ref_nbr=201909-0607-002&icID=251581.

• Data Collection—The NSCH-LC is a one-phase data collection. Households will be assigned one of the three age-based topical questionnaires. To support the full age range of 3-23 years old for the NSCH-LC sampled children and young adults, the questionnaire age splits will be as followed: LC1/S-LC1 is 3- to 5-years-old, the LC2_3/S-LC2_3 is 6- to 17-years-old, and the LC4/S-LC4 is 18- to 23-years-old.

• Nonresponse Follow-up—If there is evidence during the NSCH-LC data collection that the household has moved, that household case may be sent for interviewer follow-up. Interviewer nonresponse follow-up is fully dependent on funding being available. These interviewers will not administer the survey, but they will encourage response through the web instrument, paper instrument, or TQA phone support.

• Data Mode Collection—There will be two modes of data collection for the NSCH-LC. Households will be able to answer by a self-administered internet/web instrument (English only) or they will be able to answer by paper questionnaire (available in both English and Spanish). Additionally, they may call into the TQA line to complete the survey over the phone with an operator. TQA operators will be using the same web instrument used by respondents. All non-responding households will receive a paper questionnaire by the second nonresponse follow-up mailing.

• Branding—Mailing materials will be sent using U.S. Census Bureau letterhead and envelopes. Mailing materials will be reviewed during cognitive testing and based on the annual NSCH mailing materials.

• Respondent Help/Support Operations—The NSCH-LC will have a TQA line available for those who experience technical problems, have questions about the NSCH-LC, would like to complete the survey with an operator, or would like to request a paper questionnaire. In addition, email questionnaire assistance will be available for these households should they prefer that method of contact.

II. Method of Collection

The NSCH-LC will consist of both a web-push and a mixed mode data collection design. Every mailing the household receives will include a web invitation to complete the English web instrument. However, depending on the mode of completion and language preference in NSCH 2018/2019, the NSCH-LC invitation mail package may also include a paper questionnaire (either English or Spanish). The Spanish language response preference group will also receive instructions for calling into the TQA line to complete the survey in Spanish over the phone. Households that prefer to complete the survey using a paper questionnaire may call TQA to request a questionnaire be mailed to them in their next scheduled mailing.

III. Data

OMB Control Number: 0607-XXXX.

Form Number(s): NSCH-LC1 (English topical questionnaire for 3- to 5-year-old children), NSCH-LC2_3 (English topical questionnaire for 6- to 17-year-old children), NSCH-LC4 (English topical questionnaire for 18- to 23-year-old persons), NSCH-S-LC1 (Spanish topical questionnaire for 3- to 5-year-old children), NSCH-S-LC2_3 (Spanish topical questionnaire for 6- to 17-year-old children), NSCH-S-LC4 (Spanish topical questionnaire for 18- to 23-year-old persons).

Type of Review: Regular submission, New Information Collection Request.

Affected Public: Parents, researchers, policymakers, and family advocates.

Estimated Number of Respondents: 45,000.

Estimated Time per Response: Response time for households with eligible children will be approximately 40 minutes.

Estimated Total Annual Burden Hours: 30,000.

Estimated Total Annual Cost to Public: $0 (This is not the cost of respondents' time, but the indirect costs respondents may incur for such things as purchases of specialized software or hardware needed to report, or expenditures for accounting or records maintenance services required specifically by the collection.)

Respondent's Obligation: Voluntary.

Legal Authority: Title 13 U.S.C. Section 8(b); 42 U.S.C. 701; and 42 U.S.C. 241.

IV. Request for Comments

We are soliciting public comments to permit the Department/Bureau to: (a) Evaluate whether the proposed information collection is necessary for the proper functions of the Department, including whether the information will have practical utility; (b) Evaluate the accuracy of our estimate of the time and cost burden for this proposed collection, including the validity of the methodology and assumptions used; (c) Evaluate ways to enhance the quality, utility, and clarity of the information to be collected; and (d) Minimize the reporting burden on those who are to respond, including the use of automated collection techniques or other forms of information technology.

Comments that you submit in response to this notice are a matter of public record. We will include, or summarize, each comment in our request to OMB to approve this ICR. Before including your address, phone number, email address, or other personal identifying information in your comment, you should be aware that your entire comment—including your personal identifying information—may be made publicly available at any time. While you may ask us in your comment to withhold your personal identifying information from public review, we cannot guarantee that we will be able to do so.

Sheleen Dumas,
Department PRA Clearance Officer, Office of the Chief Information Officer, Commerce Department.

[FR Doc. 2022-25319 Filed 11-18-22; 8:45 am]

BILLING CODE 3510-07-P